DEPARTMENT OF COMMERCE

Bureau of Industry and Security

15 CFR Part 774

[Docket No. 070105004-7050-01]

RIN 0694 AD95

December 2006 Wassenaar Arrangement Plenary Agreement Implementation: Categories 1, 2, 3, 5 Part I, 6, 7, 8, and 9 of the Commerce Control List; Wassenaar Reporting Requirements; Definitions; and Statement of Understanding on Source Code

Correction

In rule document E7-21247 beginning on page 62524 in the issue of Monday, November 5, 2007, make the following corrections:

PART 774—[CORRECTED]

1. On page 62545, in Supplement No. 1 to Part 774 (the Commerce Control List), Category 6 Sensors, Export Control Classification Number (ECCN) 6A005, in the second column, in paragraph b.6.a., in the first line, “μs” should read “ns”.

2. On page 62547, in Supplement No. 1 to Part 774 (the Commerce Control List), Category 6 Sensors, Export Control Classification Number (ECCN) 6A995, in the second column, the second occurrence of paragraph “d.1.a.” should read “d.1.a..1.”.

3. On the same page, in the same Supplement, in the same Category, in the same ECCN, in the same column, paragraph “d.1.a.2.1.” should read, “d.1.a..2.”.

[FR Doc. Z7-21247 Filed 11-19-07; 8:45 am]

BILLING CODE 1505-01-D